FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011689-001.

Title: Zim/CSCL Space Charter Agreement FMC Agreement No. 011689-001.

Parties: China Shipping Container Lines Co. Ltd. (“CSCL”) Zim Israel Navigation Co., Ltd. (“Zim”).

Synopsis: The proposed agreement amendment reflects the creation of CSCL's new string serving China-Japan-Korea-U.S. West Coast, increases the slot commitments, breaks down those commitments by vessel string, and adds provisions on vessel dry dock notice and omission of ports. The parties request expedited review.

Dated: September 15, 2000.
By Order of the Federal Maritime Commission.
Theodore A. Zook,
Assistant Secretary.

[FR Doc. 00-24189 Filed 9-19-00; 8:45 am]

BILLING CODE 6730-01-P